FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 21, 2003.

A. Federal Reserve Bank of Atlanta (Sue Costello, Vice President) 1000 Peachtree Street, N.E., Atlanta, Georgia 30303:

1. John Alfred Melancon, Jr., St. Martinville, Louisiana; to acquire shares of First Bankshares of St. Martin, Ltd., and its subsidiary, First Louisiana National Bank, both of Breaux Bridge, Louisiana.

B. Federal Reserve Bank of San Francisco (Tracy Basinger, Director, Regional and Community Bank Group) 101 Market Street, San Francisco, California 94105-1579:

1. David and Verla Sorensen, Salt Lake City, Utah, and Jeffrey and Sheila Smith, Midland, Texas; to retain voting shares of Community Bancorp, and thereby retain shares of Community Bank of Nevada, both of Las Vegas, Nevada. In addition, David and Verla Sorensen to acquire up to 25 percent of Community Bancorp, Las Vegas, Nevada.

Board of Governors of the Federal Reserve System, November 3, 2003.
Robert deV. Frierson,
Deputy Secretary of the Board.

[FR Doc. 03-28100 Filed 11-6-03; 8:45 am]

BILLING CODE 6210-01-S